DEPARTMENT OF THE INTERIOR

Bureau of Land Management

[UT-921-5421-BX-AA03; UTU-81879] [UT-921-5421-BX-AA04; UTU-81880] [UT-921-5421-BX-AA05; UTU-82193] [UT-921-5421-BX-AA06; UTU-82194]

Notice of Applications for Recordable Disclaimer of Interest in Public Highway Rights-of-Way Established Pursuant to Revised Statute 2477 (43 U.S.C. 932, Repealed October 21, 1976); Roads D28 and D30 in Daggett County, UT; Hickory Peak Road in Beaver County; and Horse Valley Road in Beaver and Iron Counties

AGENCY: Bureau of Land Management, Interior.

ACTION: Notice of applications.

SUMMARY: On September 15, 2004 the State of Utah and Daggett County submitted two applications for recordable disclaimers of interest from the United States. These recordable disclaimer of interest applications are identified by BLM Serial Number UTU-81879 for Road D28 and UTU-81880 for Road D30, both in Daggett County, Utah.

On December 8, 2004 the State of Utah and Beaver and Iron Counties submitted two additional applications for recordable disclaimers of interest from the United States. These recordable disclaimer of interest applications are identified by BLM Serial Number UTU-82193 for Hickory Peak Road in Beaver County, Utah and UTU-82194 for Horse Valley Road in Beaver and Iron Counties, Utah.

Recordable disclaimers of interest, if issued, would confirm that the United States has no property interest in the identified public highway rights-of-way. This Notice is intended to notify the public of the pending applications and the State's and Counties' grounds for supporting them.

Specific details of the applications are provided in the SUPPLEMENTARY INFORMATION section below.

DATES: On or before April 25, 2005, all interested parties may submit comments on the State's and Counties' applications as follows. Comments on the Road D28 application should reference BLM Case File Serial Number UTU-81879, comments on the Road D30 application should reference BLM Case File Serial Number UTU-81880, comments on the Hickory Peak Road should reference BLM Case File Serial Number UTU-82193, and comments on the Horse Valley Road should reference BLM Case File Serial Number UTU-82194. Public comment will be accepted if received by BLM or postmarked no later than 60 days following the date of publication of this Notice. BLM will review all timely comments received on the applications, and will address all relevant, substantive issues raised in the comments. A final decision on the merits of the applications will not be made until at least May 25, 2005.

ADDRESSES: Interested parties and the public are encouraged to access the RS2477 Disclaimer Process public Web site at http://www.ut.blm.gov/rs2477 to review the application materials and provide comments on the application. For those without access to the public Web site, written comments may be provided to the Chief, Branch of Lands and Realty, BLM Utah State Office (UT-921), P.O. Box 45155, Salt Lake City, Utah 84145-0155.

FOR FURTHER INFORMATION CONTACT: Mike DeKeyrel, Realty Specialist, BLM Utah State Office Branch of Lands and Realty (UT-921) at the above address or Phone 801-539-4105 and Fax 801-539-4260.

SUPPLEMENTARY INFORMATION: Disclaimers of interest are authorized by Section 315 of the Federal Land Policy and Management Act (FLPMA) of 1976, as amended (43 U.S.C 1745), the regulations contained in 43 CFR Subpart 1864, and the April 9, 2003 Memorandum of Understanding (MOU) Between the State of Utah and the Department of the Interior on State and County Road Acknowledgement.

The D28 and D30 Roads are located in northeastern Daggett County, approximately 40 miles north-northeast of Vernal, Utah and approximately one and one-half miles south of the Wyoming state line. Road D28 is approximately one mile in length, and Road D30 is approximately two miles in length. Both Roads D28 and D30 connect to Brown's Park Road, Daggett County's main transportation artery through the Clay Basin area. Application information submitted by the State and County indicates that initial road construction occurred in the late 1920s on Road D28 and the northern portion of Road D30, and construction of the southern portion of Road D30 occurred in the early 1960s.

The road construction was for access to oil and gas wells in the Clay Basin. The surface of both roads is native dirt, with gravel added and graded throughout their lengths. The recordable disclaimer of interest applications pertain to the entire lengths of Roads D28 and D30, as both roads pass through BLM administered public lands only. The Hickory Peak Road is located in central Beaver County, approximately three miles west of Milford, Utah, and is approximately three miles in length. Application information submitted by the State and County indicates that initial road construction occurred in the 1870s. The initial road construction was for access to mines located in Star Range Mountain area. The surface of the road is native dirt, with gravel added and graded throughout its length. The recordable disclaimer of interest applications pertain to the entire length of Hickory Peak Road, as the road passes through BLM administered public lands only.

The Horse Valley Road is located in south-central Beaver County and north-central Iron County, approximately 10 miles west-southwest of Minersville, Utah, and is approximately nine miles in length. Approximately two miles are in Beaver County and approximately seven miles are in Iron County. Application information submitted by the State and Counties indicates that initial road use began in the 1920s and construction (grading) occurred in the 1940s. The road construction and use was and is for access to grazing and general public access in the local area. The surface of the road is native dirt, and graded throughout its length. The recordable disclaimer of interest applications pertain to those road segments across public lands administered by BLM. One road segment approximately 0.66 mile long is across State of Utah land and is not a part of the application.

The State of Utah and the Counties of Daggett, Beaver and Iron assert that they hold a joint and undivided property interest in the road rights-of-way identified above as granted pursuant to the authority provided by Revised Statute 2477 (43 U.S.C. 932, repealed October 21, 1976) over public lands administered by the Bureau of Land Management. The State submitted the following information with the application in both paper copy and in electronic form (Compact Disk):

1. Narrative description of the location, characteristics and attributes of Road D28, Road D30, Hickory Peak Road, and Horse Valley Road. The claimed right-of-way (disturbed) width for Road D28 is 40 feet. The claimed right-of-way (disturbed) width for road D30 is 45 feet. The claimed right-of-way (disturbed) width for Hickory Peak Road ranges from 24 to 30 feet. The claimed right-of-way (disturbed) width for Horse Valley Road is 24 feet in Beaver County and ranges from 10 to 12 feet wide in Iron County.

2. Centerline description of the roads based on Global Positioning System (GPS) data.

3. Detailed descriptions of the rights-of-way (one identified segment for each road) passing through public lands including beginning and end points, surface type, and disturbed width.

4. Legal description by aliquot part (e.g. ¼¼ section) of the land parcels through which the roads pass.

5. Maps showing location of the identified road rights-of-way and the location and dates of water diversion points and mining locations to which the highway provides access.

6. Aerial photography dated 1976 and after 1990.

7. Signed and notarized affidavits by persons attesting to the location of both roads; their establishment as a highway prior to October 21, 1976; familiarity with the character and attributes of both roads including type of travel surface, disturbed width, associated improvements and ancillary features such as bridges, cattleguards, etc.; current public usage of the road; the historic and current purposes for which the road is used; and evidence of periodic maintenance.

8. Recent photographs of the roads at various points along their alignments.

The State of Utah did not identify any known adverse claimants of the identified public highway rights-of-way.

If approved, the recordable disclaimer documents would confirm that the United States has no property interest in the public highway rights-of-way as it is identified in the official records of the Bureau of Land Management as of the date of the disclaimer document.

Comments, including names and street addresses of commentors, will be available for public review at the Utah State Office (see address above), during regular business hours 8 a.m. to 4 p.m. local time, Monday through Friday, except holidays. Individual respondents may request confidentiality. If you wish to hold your name or address from public review or from disclosure under the Freedom of Information Act, you must state this prominently at the beginning of your comments. Such requests will be honored to the extent allowed by law. All submissions from organizations or business will be made available for public inspection in their entirety. Anonymous comments will not be accepted.

Dated: January 7, 2005.
Kent Hoffman,
Deputy State Director.

[FR Doc. 05-3520 Filed 2-23-05; 8:45 am]

BILLING CODE 4310-DQ-P